DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Community Rating System (CRS) Program—Application Worksheets and Commentary.

OMB Number: 1660-0022.

Abstract: CRS Application Cover Page, Recertification Worksheet and Modification/Cycle Cover Page are used by a community to apply or renew CRS program participation and specify what activities will be performed by the community. CRS Activity Worksheets are used by the community to provide details in the selected activities based on the CRS Coordinator's Manual.

Affected Public: State, Local or Tribal Government.

Number of Respondents: 150 for application and 950 for maintenance.

Estimated Time per Respondent: 31 hours for application and 4 hours for maintenance.

Estimated Total Annual Time Burden: 8,450 hours.

Annual Frequency of Response: 1.

Comments:

Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before June 18, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: May 14, 2007.
John A. Sharetts-Sullivan,
Chief, Records Management and Privacy Information Resources Management Branch, Information Technology Services Division, Federal Emergency Management Agency, Department of Homeland Security.

[FR Doc. E7-9567 Filed 5-17-07; 8:45 am]

BILLING CODE 9110-11-P